NUCLEAR REGULATORY COMMISSION

Draft Regulatory Guide; Issuance; Availability Correction

On June 6, 2003, the NRC published a Notice of Availability on Draft Regulatory Guide DG-1121, “Guidelines for Categorizing Structures, Systems, and Components in Nuclear Power Plants According to their Safety Significance,” that contained a number of errors. This Notice of Availability is being reprinted to correct these errors.

The Nuclear Regulatory Commission (NRC) has issued for public comment a proposed guide in its Regulatory Guide Series. Regulatory guides are developed to describe and make available to the public such information as methods acceptable to the NRC staff for implementing specific parts of the NRC's regulations, techniques used by the staff in evaluating specific problems or postulated accidents, and data needed by the staff in its review of applications for permits and licenses.

The draft guide is temporarily identified by its task number, DG-1121, which should be mentioned in all correspondence concerning this draft guide. Draft Regulatory Guide DG-1121, “Guidelines for Categorizing Structures, Systems, and Components in Nuclear Power Plants According to their Safety Significance,” is being developed to describe a process that is acceptable to the NRC staff for the development and assessment of evaluation models that may be used to comply with the NRC's regulations with respect to the categorization of structures, systems, and components that are considered in risk-informing special treatment requirements. This guide conforms to a proposed amendment to 10 CFR 50.69 that was published in the Federal Register (68 FR 26511) on May 16, 2003.

This draft guide has not received complete staff approval and does not represent an official NRC staff position.

Comments will be most helpful if received by August 1, 2003. You may submit comments by any one of the following methods. Please include the draft guide number (DG-1121) in the subject line of your comments. Comments on regulatory guides submitted in writing or in electronic form will be made available to the public in their entirety on the NRC rulemaking Web site. Personal information will not be removed from your comments.

Mail comments to: Rules and Directives Branch, Office of Administration, U.S. Nuclear Regulatory Commission, Washington, DC 20555-0001.

E-mail comments to: NRCREP@nrc.gov. You may also submit comments via the NRC's rulemaking Web site at http://ruleforum.llnl.gov. Address questions about our rulemaking Web site to Carol Gallagher (301) 415-5905; e-mail CAG@nrc.gov. Address questions about the content of the draft guide to Mr. David Diec, (301) 415-2834; e-mail dtd@nrc.gov.

Hand deliver comments to: Rules and Directives Branch, Office of Administration, 11555 Rockville Pike, Rockville, Maryland 20852, between 7:30 am and 4:15 p.m. on Federal workdays.

Fax comments to: Rules and Directives Branch, Office of Administration, U.S. Nuclear Regulatory Commission at (301) 415-5144.

Publicly available documents related to this regulatory guide may be examined and copied for a fee at the NRC's Public Document Room (PDR), Public File Area O1F21, One White Flint North, 11555 Rockville Pike, Rockville, Maryland. The regulatory guide and related documents, including comments, can be viewed and downloaded electronically via the NRC's rulemaking Web site at http://ruleforum.llnl.gov.

Also, publicly available documents created or received at the NRC are available electronically at the NRC's Electronic Reading Room at http://www.nrc.gov/NRC/reading-rm/adams.html. From this site, the public can gain entry into the NRC's Agencywide Document Access and Management System (ADAMS), which provides text and image files of NRC's public documents. If you do not have access to ADAMS or if there are problems in accessing the documents located in ADAMS, contact the NRC Public Document Room (PDR) Reference staff at 1-800-397-4209, 301-415-4737 or by e-mail to PDR@nrc.gov.

Although a deadline is given for comments on this draft guide, comments and suggestions in connection with items for inclusion in guides currently being developed or improvements in all published guides are encouraged at any time. Requests for single copies of draft or final regulatory guides (which may be reproduced) or for placement on an automatic distribution list for single copies of future draft guides in specific divisions should be made in writing to the U.S. Nuclear Regulatory Commission, Washington, DC 20555, Attention: Reproduction and Distribution Services Section, or by fax to (301) 415-2289; e-mail Distribution@nrc.gov. Telephone requests cannot be accommodated. Regulatory guides are not copyrighted, and NRC approval is not required to reproduce them.

(5 U.S.C. 552(a))

Dated at Rockville, Maryland, this 3rd day of July 2003.
For the Nuclear Regulatory Commission.
Karen M. Fitch,
Deputy Director, Program Management, Policy Development and Analysis Staff, Office of Nuclear Regulatory Research.

[FR Doc. 03-17582 Filed 7-10-03; 8:45 am]

BILLING CODE 7590-01-P